DEPARTMENT OF HEALTH AND HUMAN SERVICES

National Institutes of Health

National Institute of Child Health and Human Development; Notice of Meeting

Pursuant to section 10(d) of the Federal Advisory Committee Act, as amended (5 U.S.C. Appendix 2), notice is hereby given of a meeting of the National Advisory Child Health and Human Development Council.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Child Health and Human Development Council, NACHHD Council Session.

Date: September 23-24, 2002.

Open: September 23, 2002, 9:45 a.m. to 3 p.m.

Agenda: The agenda includes: Report of the Director, NICHD; presentation by the Reproductive Sciences Branch, NICHD, and other business of the council.

Place: Building 31C, Conference Room 6, NIH, Bethesda, MD 20892.

Closed: September 23, 2002, 3:15 p.m. to 5 p.m.

Agenda: To review and evaluate grant applications.

Place: Conference Room 6, Building 31C, National Institutes of Health, 9000 Rockville Pike, Bethesda, MD 20892.

Closed: September 24, 2002, 8:30 a.m. to Adjournment.

Agenda: To review and evaluate grant applications.

Place: Building 31C, Conference Room 6, NIH, Bethesda, MD 20892.

Contact Person: Yvonne T. Maddox, Ph.D., Deputy Director, National Institute of Child Health and Human Development, NIH, 9000 Rockville Pike, MSC 7510, Building 31, Room 2A03, Bethesda, MD 20892, (301) 496-1848.

In the interest of security, NIH has instituted stringent procedures for entrance into the building by non-government employees. Persons without a government I.D. will need to show a photo I.D. and sign-in at the security desk upon entering the building.

Information is also available on the Institute's/Center's home page: www.nichd.nih.gov/about/nachhd.htm, where an agenda and any additional information for the meeting will be posted when available.

(Catalogue of Federal Domestic Assistance Program Nos. 93.209, Contraception and Infertility Loan Repayment Program; 93.864, Population Research; 93.865, Research for Mothers and Children; 93.929, Center for Medical Rehabilitation Research, National Institutes of Health, HHS)
Dated: August 23, 2002.
LaVerne Y. Stringfield,
Director, Office of Federal Advisory Committee Policy.

[FR Doc. 02-22073 Filed 8-28-02; 8:45 am]

BILLING CODE 4140-01-M